DEPARTMENT OF AGRICULTURE

Agricultural Marketing Service

[Docket Number FV-04-307]

United States Standards for Grades of Cucumbers

AGENCY: Agricultural Marketing Service, USDA.

ACTION: Notice; withdrawal.

SUMMARY: The Agricultural Marketing Service (AMS) is withdrawing the notice soliciting comments on its proposal to amend the voluntary United States Standards for Grades of Cucumbers. After reviewing and considering the comments received, the Agency has decided not to proceed with this action.

EFFECTIVE DATE: March 11, 2005.

FOR FURTHER INFORMATION CONTACT: David Priester, Standardization Section, Fresh Products Branch, Fruit and Vegetable Programs, Agricultural Marketing Service, U.S. Department of Agriculture, 1400 Independence Avenue, SW., Room 1661 South Building, STOP 0240, Washington, DC 20250-0240, Fax (202) 720-8871 or call (202) 720-2185; e-mail David.Priester@usda.gov. The United States Standards for Grades of Cucumbers are available either through the address cited above or by accessing the Fresh Products Branch Web site at http://www.ams.usda.gov/standards/stanfrfv.htm.

Background

At a 2003 meeting with the Fruit and Vegetable Industry Advisory Committee, AMS was asked to review all the fresh fruit and vegetable grade standards for usefulness in serving the industry. AMS had identified the United States Standards for Grades of Cucumbers for a possible revision. The United States Standards for Grades of Cucumbers were last amended March 1, 1958.

On June 25, 2004, a notice requesting comments on the possible revision of the standards by incorporating industry terms as well as other changes was published in the Federal Register (69 FR 35572) with the comment period ending August 24, 2004.

Three comments were received during the official period for comment. One comment from a consumer did not support revising the standard. One comment from an industry member supported the inclusion of industry terms. The commenter stated, “I feel we should have two categories for Super Selects: #1 criteria being a 66-76 count and a #2 criteria being a 56-65 count.” However, another industry member commented, “That the terms Super Select, Select, Small, Large and Plain are commonly used by the industry to convey the desired size, quality and condition of cucumbers but that the criteria for these terms are not consistently defined. This commenter noted that the meaning is often interpreted differently by various trading partners.” This industry member further stated, “* * * that wholesale receivers and the greater produce industry would be better served if current trading practices were supported by a system of U.S. grade standards that establish reasonable parameters for size, consistency of size within packs and provide more meaningful definitions for quality and condition.” However, the commenter did not include those definitions.

While some members of the industry agree that a consistency of size and specific count ranges would promote orderly marketing, different segments within the industry are divided over the meanings of industry terms. In view of the lack of any substantial consensus as to whether the proposed inclusion of industry terms would meet the needs of the entire industry, the notice is being withdrawn. The withdrawal of this notice will provide industry representatives with an opportunity for further discussions in the areas of mutual concern.

After reviewing and considering the comments received, the Agency has decided not to proceed with the action. Therefore, the notice published June 25, 2004 (69 FR 35572), is withdrawn.

Authority: 7 U.S.C. 1621-1627.

Dated: March 7, 2005.
Kenneth C. Clayton,
Acting Administrator.

[FR Doc. 05-4810 Filed 3-10-05; 8:45 am]

BILLING CODE 3410-02-P